DEPARTMENT OF THE INTERIOR

Fish and Wildlife Service

50 CFR Part 17

Endangered and Threatened Wildlife and Plants: Notice of Receipt of an Application for an Incidental Take Permit (ITP) and Availability and Opening of Comment Period for a Draft Environment Assessment (EA) Habitat Conservation Plan (HCP) for the West Virginia Northern Flying Squirrel in Association With Snowshoe Mountain, Incorporated, Pocahontas County, WV

AGENCY: Fish and Wildlife Service, Interior.

ACTION: Notice of availability and receipt of application.

SUMMARY: This notice advises the public that Snowshoe Mountain, Incorporated (SMI) has applied to the U.S. Fish and Wildlife Service (Service) for an ITP pursuant to section 10(a)(1)(B) of the Endangered Species Act of 1973 (ESA), as amended. The application has been assigned permit number TE-102380. The proposed permit would authorize the incidental take of a federally endangered species, the West Virginia northern flying squirrel (WVNFS) (Glaucomys sabrinus fuscus), known to occur throughout the property owned by the applicant at Snowshoe Mountain Resort, Pocahontas County, West Virginia. The proposed taking is incidental to a planned recreation and infrastructure expansion project on approximately 43 acres owned by SMI. The permit would be in effect for up to 10 years depending on completion of the proposed activities.

The Service announces the receipt of the SMI ITP application and the availability of the proposed Recreation and Infrastructure Expansion at Snowshoe Mountain HCP which accompanies the ITP application, for public comment. In addition, the Service also announces the availability of a draft EA for the proposed issuance of the ITP. This notice is provided pursuant to the section 10(c) of the ESA and National Environmental Policy Act of 1969 (NEPA) regulations (40 CFR 1506.6).

The Service will evaluate the application, associated documents, and comments submitted thereon to determine whether the application meets the requirements of NEPA regulations and section 10(a) of the ESA. If it is determined that the requirements are met, a permit will be issued for the incidental take of the WVNFS. The final NEPA and permit determinations will not be completed until after the end of the 60-day comment period and will fully consider all public comments received during the comment period.

DATES: Written comments on the permit application, HCP, and EA should be sent to the Service's West Virginia Field Office (see ADDRESSES) and should be received on or before November 7, 2005.

ADDRESSES: Persons wishing to review the permit application, HCP, and draft EA may obtain a copy by writing to the Service's West Virginia Field Office, 694 Beverly Pike, Elkins, West Virginia 26241. Requests for the documentation must be in writing to be processed. Written data or comments concerning the permit application, draft EA and/or HCP should also be addressed to the Field Office Supervisor, U.S. Fish and Wildlife Service, West Virginia Field Office, at the address above. Please refer to permit TE-102380 when submitting comments. Documents will also be available for public inspection by written request, by appointment only, during normal business hours (8 a.m. to 4:30 p.m.).

FOR FURTHER INFORMATION CONTACT: Mr. Thomas Chapman or Shane Jones, West Virginia Field Office (see ADDRESSES), 304-636-6586.

SUPPLEMENTARY INFORMATION: Section 9 of the ESA and Federal regulation prohibits the “taking” of a species listed as endangered or threatened. Under the ESA, the term “take” means to harass, harm, pursue, hunt, shoot, wound, kill, trap, capture, or collect listed wildlife, or to attempt to engage in any such conduct. The Service may, under limited circumstances, issue permits to “incidentally take” listed species, if such taking is incidental to, and not the purpose of, otherwise lawful activities. Regulations governing permits for endangered species are promulgated in 50 CFR 17.22.

Background

SMI has applied to the Service for an ITP pursuant to section 10(a) of the ESA. The applicant proposes to implement an HCP for the WVNFS that will allow construction within WVNFS habitat. The applicant's proposed activities may result in take, as defined in the ESA and its implementing regulations, of listed species. Authorized take would only affect WVNFS; take of other federally listed species is specifically excluded from the proposed action. This permit would authorize the incidental take of WVNFS at Snowshoe Mountain Resort through otherwise lawful activities, specifically the recreation and infrastructure expansion, occurring in WVNFS habitat. The HCP and permit would be in effect for a maximum of 10 years upon issuance.

The applicant proposes to construct additional downhill ski slopes and expand an existing trail at Snowshoe, to accommodate the projected increase in skiers, particularly beginners and intermediate skiers, and the demand for skiable terrain. In connection with ski slope expansion, SMI proposes to complete a parking area expansion to alleviate traffic congestion as a result of the projected increased recreational use of the resort. Finally, SMI is proposing to develop an area in which to store some equipment, including snowplows, bulldozers, buses, trucks, earth graders, backhoes, and landscaping equipment. It is necessary to house this equipment in a centrally located area to ensure that heavy equipment traffic on the main road is minimized. The proposed activities are expected to remove approximately 43 acres of forest.

The anticipated incidental take will be limited to harm through habitat loss as the result of the permanent loss of 43 acres of suitable WVNFS habitat. SMI proposes to implement measures to minimize, mitigate, and monitor impacts to the WVNFS and include surveying for WVNFS, following seasonal clearing restrictions, allowing when possible, natural forest regeneration in temporary construction zones, and establishing a permanent conservation area to provide refuge for the WVNFS.

The draft EA considers the environmental consequences of three alternatives, including a no-action alternative, the proposed action, and a reduced impact alternative.

The Service provides this notice pursuant to section 10(c) of the ESA. The Service will evaluate whether the issuance of a section 10(a)(1)(B) ITP complies with section 7 of the ESA by conducting an intra-Service section 7 consultation. The results of the biological opinion, in combination with the evaluation of the permit application, the HCP, EA, and comments submitted thereon, will be used in the final analysis to determine whether the application meets the requirements of section 10(a) of the ESA. If the requirements are met, the Service will issue a permit to SMI for the incidental take of WVNFS during the proposed recreation and infrastructure expansion activities. We will make the final permit decision no sooner than 60 days from the date of this notice.

Authority: The authority for this section is the Endangered Species Act of 1973, as amended (16 U.S.C. 1531 et seq.).

Dated: August 17, 2005.
Marvin E. Moriarty,
Regional Director, Region 5.

[FR Doc. 05-17672 Filed 9-6-05; 8:45 am]

BILLING CODE 4310-55-P